DEPARTMENT OF STATE

[Public Notice: 8723]

60-Day Notice of Proposed Information Collection: Certificate of Eligibility for Exchange Visitor Status (J-Visa)

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATE(S): The Department will accept comments from the public up to July 8, 2014.

ADDRESSES: You may submit comments by any of the following methods:

• Web: Persons with access to the Internet may use the Federal Docket Management System (FDMS) to comment on this notice by going to www.Regulations.gov. You can search for the document by entering “Public Notice 8723” in the Search bar. If necessary, use the Narrow by Agency filter option on the Results page.

• Email: JExchanges@State.gov.

• Mail (paper, disk, or CD-ROM submissions): U.S. Department of State, ECA/EC, SA-5, Floor 5, 2200 C Street NW., Washington, DC 20522-0505, ATTN: Federal Register Notice Response.

You must include the DS form number (if applicable), information collection title, and the OMB control number in any correspondence.

FOR FURTHER INFORMATION CONTACT: Direct requests for additional information regarding the collection listed in this notice, including requests for copies of the proposed collection instrument and supporting documents, to Robin J. Lerner, Deputy Assistant Secretary for Private Sector Exchange, ECA/EC, SA-5, Floor 5, Department of State, 2200 C Street NW., Washington, DC 20522-0505, who may be reached on 202-632-3206 or at JExchanges@state.gov.

SUPPLEMENTARY INFORMATION: • Title of Information Collection: Certificate of Eligibility for Exchange Visitor Status (J-Visa).

• OMB Control Number: OMB No. 1405-0119.

• Type of Request: Revision of a Currently Approved Collection.

• Originating Office: Bureau of Educational and Cultural Affairs, Office of Policy and Program Support (ECA/EC).

• Form Number: DS-2019.

• Respondents: U.S. Department of State designated sponsors.

• Estimated Number of Respondents: 1,400.

• Estimated Number of Responses: 325,000.

• Average Time per Response: 45 minutes.

• Total Estimated Burden Time: 243,750 hours.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The collection is the continuation of information collected and needed by the Bureau of Educational and Cultural Affairs in administering the Exchange Visitor Program (J-visa) under the provisions of the Mutual Educational and Cultural Exchange Act, as amended (22 U.S.C. 2451 et seq.). The collection will undergo a name change to “Certificate of Eligibility for Exchange Visitor Status (J-Visa).” However, each completed form will continue to note whether it is for a J-1 or a J-2 recipient. In addition, there are updates to the Paperwork Reduction Act address listed on Form DS-2019 and to form usage information. Changes also have been made to the following fields in the electronic data-gathering portion: Email Address as a required field at the time of validation for all exchange visitors coming to the U.S. under the auspices of designated private sector exchange program sponsors; optional fields for U.S. Telephone Number and Mailing Address; and the field Current U.S. Address will be changed to Physical Address. The instruction section of Form DS-2019 also has been revised and updated to remove Flight Trainees as an exchange category, as these are no longer part of the program.

Methodology: Access to Form DS-2019 is made available to Department designated sponsors electronically via the Student and Exchange Visitor Information System (SEVIS).

Dated: May 1, 2014.
Robin J. Lerner,
Deputy Assistant Secretary for Private Sector Exchange, Bureau of Educational and Cultural Affairs, U.S. Department of State.

[FR Doc. 2014-10729 Filed 5-8-14; 8:45 am]

BILLING CODE 4710-05-P